NUCLEAR REGULATORY COMMISSION

10 CFR Part 40

[NRC-2009-0079 and NRC-2011-0080]

RIN 3150-AI50

Domestic Licensing of Source Material—Amendments/Integrated Safety Analysis; Correction

AGENCY: Nuclear Regulatory Commission.

ACTION: Extension of public comment period and public meeting; correction.

SUMMARY: The U.S. Nuclear Regulatory Commission (NRC) is correcting a notice appearing in the Federal Register on July 27, 2011 (76 FR 44865), that extended the public comment period and provided a date for a public meeting for the proposed rule, “Domestic Licensing of Source Material—Amendments/Integrated Safety Analysis.” This action is necessary to correct the date of the public meeting in the DATES section, and to correct the Docket ID information for accessing publicly available documents related to the proposed rule and draft guidance document in the ADDRESSES section.

FOR FURTHER INFORMATION CONTACT: Cindy Bladey, Chief, Rules, Announcements and Directives Branch, Office of Administration, U.S. Nuclear Regulatory Commission, Washington, DC 20555-0001; telephone: 301-492-3667 or e-mail: Cindy.Bladey@nrc.gov.

SUPPLEMENTARY INFORMATION: On page 44865 of Federal Register document 2011-14060, published July 27, 2011 (76 FR 44865), in the third column, under the section titled DATES, second paragraph, “August 7, 2011” is corrected to read “August 17, 2011.” Also, on page 44866 of the same document, in the first column, the last bulleted item before the section titled FOR FURTHER INFORMATION CONTACT is removed and the following bulleted item is added in its place:

• Federal Rulemaking Web site: Public comments and supporting materials related to the proposed rule and proposed draft guidance document can be found at http://www.regulations.gov by searching on Docket ID NRC-2009-0079 for the proposed rule and Docket ID NRC-2011-0080 for the proposed draft guidance document.

Dated at Rockville, Maryland, this 29th day of July 2011.
For the Nuclear Regulatory Commission.
Cindy Bladey,
Chief, Rules, Announcements and Directives Branch, Division of Administrative Services, Office of Administration.

[FR Doc. 2011-19726 Filed 8-3-11; 8:45 am]

BILLING CODE 7590-01-P